DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (Pub. L. 110-343) and in compliance with the Federal Advisory Committee Act. The purpose of the meeting is to finalize the operating guidelines, project proposal criteria, and operting costs for the Yavapai County RAC.

DATES: The meeting will be held September 22, 2010; 9 a.m. to 4 p.m.

ADDRESSES: The meeting will be held at the Prescott Fire Center, 2400 Melville Dr, Prescott, AZ 86301.

FOR FURTHER INFORMATION CONTACT: Debbie Maneely, RAC Coordinator, Prescott National Forest, 344 S. Cortez, Prescott, AZ 86301; (928) 443-8130 or dmaneely@fs.fed.us.

SUPPLEMENTARY INFORMATION: The meeting is open to the public. The following business will be conducted: (1) Approve August meeting minutes; (2) discuss the Grants and Agreements process; (3) finalize the operating guidelines and project proposal tips and criteria; (4) create project evaluation criteria; (5) review draft news release for project proposals; (6) followup on bin items from last meeting; and (7) next meeting agenda, location, and date.

Dated: August 21, 2010.
Alan Quan,
Forest Supervisor.

[FR Doc. 2010-21299 Filed 8-25-10; 8:45 am]

BILLING CODE 3410-11-P